COUNCIL ON ENVIRONMENTAL QUALITY

Instructions for Implementing Executive Order 13423

AGENCY: Council on Environmental Quality.

ACTION: Notice of availability of E.O. 13423 implementing instructions.

SUMMARY: On January 24, 2007, President Bush signed Executive Order 12343, “Strengthening Federal Environmental, Energy, and Transportation Management.” Section 4(b) of the E.O. authorizes the Chairman of the Council on Environmental Quality (CEQ), after consultation with the Office of Management and Budget (OMB) and the agencies, to issue instructions to implement the E.O. CEQ issued the first set of implementing instructions on March 30, 2007.

FOR FURTHER INFORMATION CONTACT: Edwin Pinero, Federal Environmental Executive, 202-456-6224.

(Authority: E.O. 12343, 72 FR 3917)

SUPPLEMENTARY INFORMATION: E.O. 13423 sets goals in the areas of energy efficiency, renewable energy, water consumption intensity, acquisition, management of toxic and hazardous chemicals, waste prevention, solid waste diversion and recycling, sustainable buildings, vehicle fleet management, and electronics stewardship. In addition, the E.O. reinforces the requirement for more widespread use of environmental management systems as the framework in which to manage and continually improve these sustainable practices.

Section 4(b) of the E.O. authorizes the CEQ Chairman, after consultation with OMB and the agencies, to issue instructions to implement the E.O. CEQ issued the first set of implementing instructions on March 30, 2007. These instructions provide additional detail and direction to agencies they work to fulfill the goals and requirements of the E.O. They do not create new requirements beyond the scope of the E.O., however. These instructions should be considered mandatory, and agencies are expected to implement them as part of complying with the E.O. The E.O. implementing instructions can be found on the Office of the Federal Environmental Executive's Web site at http://www.ofee.gov or the FedCenter Web site at http://www.fedcenter.gov/programs/compliance/.

Dated: June 12, 2007.
James L. Connaughton,
Chairman, Council on Environmental Quality.

[FR Doc. E7-11715 Filed 6-15-07; 8:45 am]

BILLING CODE 6560-50-P